DEPARTMENT OF TRANSPORTATION

Pipeline and Hazardous Materials Safety Administration

Notice of Applications for Modification of Special Permit

AGENCY: Pipeline and Hazardous Materials Safety Administration (PHMSA), DOT.

ACTION: List of Applications for Modification of Special Permits

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before October 4, 2012.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for modification of special permit is published in accordance with Part 107 of the Federal hazardous materials transportation law (49 U.S.C. 5117(b); 49 CFR 1.53(b)).

Issued in Washington, DC, on September 10, 2012
Donald Burger,
Chief, General Approval and Permits.

Modification Special Permits
Application number | Docket number | Applicant | Regulation(s) affected | Nature of special permit thereof
11470-M |  | Veolia ES Technical Solutions, L.L.C., Flanders, NJ | 49 CFR 172.301(a)(2) | To modify the special permit to authorize revising the marking requirements.
12396-M |  | National Aeronautics & Space Administration, Washington, DC | 49 CFR 173.34(d); 173.302(a); 175.3 | To modify the special permit to authorize rail freight, cargo vessel, and passenger aircraft as additional modes of operation.
13998-M |  | 3AL Testing Corp., Centennial, CO | 49 CFR 172.203(a); 172.302a(b)(2), (4)(5); 180.205(f)(g); 180.209(a), (b)(1)(iv) | To modify the special permit to authorize the ultrasonic examination of ISO 9809-2 cylinders, and the removal of Gulf Coast Hydrostatic Tests as an agent.
14227-M |  | Aluminum Tank Industries, Inc., Winter Haven, FL | 49 CFR 177.834(h), 178.700 | To modify the special permit to authorize pumps and hoses attached to discharge outlets during transportation if certain requirements are met.
14562-M |  | The Lite Cylinder Company, Franklin, TN | 49 CFR 173.304a(a)(1) | To modify the special permit to authorize the maximum service pressure be raised to 400 psi, for nonflammable refrigerant gases only, for their smallest unit.
14656-M |  | PurePak Technology Corporation, Chandler, AZ | 49 CFR 173.158(f)(3) | To modify the special permit to authorize a 2.6 liter capacity square plastic bottle and to allow use of a 500 ml round plastic bottle.
14808-M |  | Amtro Alfa Metalomecanica SA, Portugal | 49 CFR 178.51(b), (f)(1) and (2) and (g) | To modify the special permit to authorize an additional 2.1 material.
15468-M |  | Prism Helicopters Inc., Wasilla, AK | 49 CFR 172.101 Column (9B) | To modify the special permit to authorize the transportation beyond the state of Alaska.

[FR Doc. 2012-22781 Filed 9-18-12; 8:45 am]

BILLING CODE 4909-60-M